DEPARTMENT OF HOMELAND SECURITY

Federal Emergency Management Agency

[Docket ID: FEMA-2015-0019; OMB No. 1660-0108]

Agency Information Collection Activities: Submission for OMB Review; Comment Request; National Emergency Family Registry and Locator System (NEFRLS)

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before January 19, 2016.

ADDRESSES: Submit written comments on the proposed information collection to the Office of Information and Regulatory Affairs, Office of Management and Budget. Comments should be addressed to the Desk Officer for the Department of Homeland Security, Federal Emergency Management Agency, and sent via electronic mail to oira.submission@omb.eop.gov.

FOR FURTHER INFORMATION CONTACT: Requests for additional information or copies of the information collection should be made to Director, Records Management Division, 500 C Street SW., Washington, DC 20472-3100, or email address FEMA-Information-Collections-Management@fema.dhs.gov.

SUPPLEMENTARY INFORMATION: This proposed information collection previously published in the Federal Register on October 6, 2015 at 80 FR 60397 with a 60 day public comment period. FEMA received one comment which included the following statements regarding NEFRLS:

1. “Shelters are not jails, the evacuees come and go after arriving, often without the knowledge of the shelter managers. Therefore using the Safe and Well program is but a small way of contacting evacuees.”

2. “Some will intentionally hide their identity for a myriad of reasons. (abusive spouse, warrants, debts, don't want the government to know where they are, no legal citizens).”

3. “There is no single collection point for several states to share data of missing persons after a catastrophic event that covers several states.”

4. “In Texas and other larger western states the travel times are considerable, so would like to have vehicles able to have reports of who is on board said vehicles.”

5. “Integration with other local (state level) software solutions via API such as WebEOC is a must.”

6. “One system at the federal level—this should replace NSS or integrate into it (single sign on).”

FEMA evaluated the comment received regarding the NEFRLS. As mandated by Congress, NEFRLS is intended to be a system that survivors and people searching for them can use voluntarily on an individual basis. It is not intended to be a comprehensive data collection tool for responders and/or governments nor is it intended to be inclusive of all disaster survivors but only those who voluntarily choose to register. NEFRLS is not an evacuation tracking tool that can be used to create manifests. FEMA has developed the National Mass Evacuation Tracking System (NMETS) that is available to States at no charge that can perform this function. Information about NMETS can be found at the following link, http://www.fema.gov/individual-assistance-national-mass-evacuation-tracking-system. FEMA routinely explores options to increase interoperability and data sharing where applicable. FEMA always appreciates feedback from members of the emergency management community.

The purpose of this notice is to notify the public that FEMA will submit the information collection abstracted below to the Office of Management and Budget for review and clearance.

Collection of Information

Title: National Emergency Family and Registry System (NEFRLS).

Type of information collection: Revision of a currently approved information collection.

OMB Number: 1660-0108.

Form Titles and Numbers: FEMA Form 528-2.

Abstract: NEFRLS is a Web-based database enabling FEMA to provide a nationally available and recognized database allowing adults (including medical patients) that have been displaced by a Presidentially declared major disaster or emergency to voluntarily register via the Internet or a toll-free number. This database allows designated individuals to search for displaced friends, family, and household members. Congress mandated that FEMA establish NEFRLS in the Post Katrina Emergency Management Reform Act of 2006, (PKEMRA) section 689c.

Affected Public: State, Local or Tribal Government, Federal Government, and Individuals or Households.

Estimated Number of Respondents: 56,000.

Estimated Total Annual Burden Hours: 10,640.

Estimated Cost: $241,634. There are no recordkeeping, capital, start-up or maintenance costs associated with this information collection.

Richard W. Mattison,
Records Management Program Chief, Mission Support, Federal Emergency Management Agency, Department of Homeland Security.

[FR Doc. 2015-31870 Filed 12-17-15; 8:45 am]

BILLING CODE 9111-23-P